DEPARTMENT OF AGRICULTURE

Submission for OMB Review; Comment Request

July 27, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: School Nutrition Dietary Assessment Study-IV.

OMB Control Number: 0584-0527.

Summary of Collection: The School Nutrition Dietary Assessment Study-IV (SNDA-IV) will collect a broad range of data from a nationally representative sample of public School Food Authorities (SFAs) and schools. The study will focuses on assessing the nutrient content of school meals offered and served to students in elementary, middle and high schools. The study will also assess issues related to the operation of school meals program, particularly aspects that may influence the nutrient content of meals offered to children, children's decisions to participate in the meal programs and the experience of children who do participate in the programs.

Need and Use of the Information: The Food and Nutrition Service (FNS) will collect data from the study to address three broad set of research questions of interest to USDA, the states, SFAs and other program stakeholders: (1) What are the characteristics of schools and SFAs participating in the National School Lunch Program (NSLP) and the School Breakfast Program (SBP), particularly as they relate to meal service operations and the food environment? (2) What are the characteristics of meals and snacks offered and served to students? (3) How have school food service and school environment characteristics and meals offered and served to students changed over time? Without this information, FNS will not be able to assess progress toward key strategic goals for the NSLP and SBP or identify related training and technical assistance needs of SFAs and schools.

Description of Respondents: State, Local, or Tribal Government.

Number of Respondents: 3,725.

Frequency of Responses: Report: Other (One time).

Total Burden Hours: 7,111.

Ruth Brown,
Departmental Information Collection Clearance Officer.

[FR Doc. E9-18245 Filed 7-30-09; 8:45 am]

BILLING CODE 3410-30-P